DEPARTMENT OF EDUCATION

[CFDA No.: 84.359A (Pre-Application) and 84.359B (Full Application)]

Early Reading First Program; Notice Inviting Local Applications for New Awards for Fiscal Year (FY) 2003

SUMMARY: The Secretary invites applications for new grant awards for FY 2003 for the Early Reading First Program. These grants are authorized by subpart 2, part B, title I, of the Elementary and Secondary Education Act (ESEA), as amended by the No Child Left Behind Act, Public Law 107-110. The Secretary also announces final eligibility, procedures, requirements, priorities, and selection criteria for this competition.

Purpose of Program

The purpose of the Early Reading First Program is to create preschool centers of excellence by improving the instruction and classroom environment of early childhood programs that are located in urban or rural high-poverty communities and that serve primarily children from low-income families. These programs will provide preschool-age children, including children with disabilities and children with limited English proficiency, with high-quality environments and early reading curricula and activities, based on scientifically based reading research, to support the age-appropriate development of: oral language, phonological awareness, print awareness, and alphabet knowledge. These activities (with tactile and communication accommodations for children with disabilities, as appropriate), in combination with professional development based on scientific research and with screening assessments, will form a seamlessly integrated instructional program that will further children's development of language, cognitive, and early reading skills and prevent them from encountering reading difficulties when they enter school.

Applications Available: March 17, 2003.

Deadline for Transmittal of Applications: Pre-Application: April 11, 2003. Full Application (for invited applicants only): June 27, 2003 (which is approximately 6 weeks after the date applicants will be invited to submit Full Applications).

Deadline for Intergovernmental Review: August 26, 2003.

Estimated Available Funds: $75,000,000.

Estimated Range of Awards: $300,000-$1,500,000 per year; $900,000-$4,500,000 for a 3-year period.

Estimated Number of Awards: 17-250.

Note: The Department is not bound by any estimates in this notice.

Project Period: Up to three years.

SUPPLEMENTARY INFORMATION:

Background

The Early Reading First Program is part of the President's early childhood initiative, “Good Start, Grow Smart.” As part of that initiative, these grants will strengthen early learning environments and instruction for young children. They also will help ensure that preschool programs are more closely coordinated with State educational goals, so that there is continuity with formal school instruction and so that what children are doing before they enter school is aligned with what is expected of them once they are in school.

Early Reading First grants will use research-based strategies to generate information about effective practices in providing younger children with the essential language, literacy, and cognitive experiences that will best prepare them for later school success. The Department plans to disseminate information about Early Reading First projects that prove to be effective.

Specifically, Early Reading First projects provide the following activities, with accommodations as needed for children with disabilities: High-quality oral language and print-rich environments; professional development for staff based on scientifically based reading research knowledge of language, cognitive, and early reading development that will assist in developing preschool-age children's oral language, phonological awareness, print awareness, and alphabet knowledge; activities and instructional materials based on scientifically based reading research for use in developing language, cognitive, and early reading skills; acquisition, training, and implementation of screening reading assessments; and integration of the instructional materials, activities, tools, and measures into the applicant's overall programs.

Eligible Applicants

(1) One or more LEAs identified as being eligible on the list of “Eligible LEAs” that will be posted on the Department's Web site at http://www.ed.gov/offices/OESE/earlyreading/index.html by the date that applications are available; (2) one or more public or private organizations or agencies (including faith-based organizations) located in a community served by one of those LEAs, which organization or agency is acting on behalf of one or more programs (which may include themselves) that serve young children, such as a Head Start program, a child care program, an Even Start program; or (3) one or more of the eligible LEAs, applying in collaboration with one or more of the eligible organizations or agencies. In addition to obtaining the list of “Eligible LEAs” from the Department's web site, the public may obtain that list on or after the date that applications are available by contacting the individual identified under FOR FURTHER INFORMATION CONTACT.

Applicability of Regulations

The following provisions of the Education Department General Administrative Regulations (EDGAR) contained in Title 34 of the Code of Federal Regulations (CFR) apply to these Early Reading First Program grants: 34 CFR parts 74, 75, 77, 79, 80, 81, 82, 85, 86, 97, 98, and 99.

FY 2003 Eligibility

Background

The Early Reading First statute ties grant applicant eligibility to basic LEA eligibility for Reading First State Grants subgrants. Specifically, to meet the basic eligibility criteria under the Reading First State Grants Program (and, thus, the Early Reading First Program), each eligible LEA must:

• Be among the LEAs in the State with the highest numbers or percentages of students in kindergarten through grade 3 reading below grade level, based on the most currently available data (and a State may use the lowest grade for which it has those data, such as grade 4, up through grade 5); and also qualify under one of the following categories as an LEA that:

• Has jurisdiction over a geographic area that includes an area designated as an empowerment zone (EZ) or an enterprise community (EC).

• Has jurisdiction over a significant number or percentage of schools that are identified for school improvement under section 1116(b) of title I of the ESEA (or the predecessor statutory authority).

• Has the highest numbers or percentages of children in the State who are counted under section 1124(c) of title I of the ESEA (the number of children counted for Title I Basic Grants to LEAs).

At the time of the FY 2002 Early Reading First grant competition, no State had yet obtained approval of its Reading First plan. Therefore, for Early Reading First eligibility for FY 2002, the Department allowed States to submit lists of eligible LEAs using the above Reading First criteria. In the absence of those lists, the Department used Title I Basic Grant allocation child count data for FY 2001 (see Federal Register notice, 67 FR 17594 (April 10, 2002)).

FY 2003 Eligibility Lists

The Department will use the same eligibility lists for the FY 2003 Early Reading First competition that it used for the FY 2002 competition, supplemented as explained in this section under “Supplemental Data.” Therefore, all LEAs, and organizations and agencies located in those LEAs, that were eligible for FY 2002 will also be eligible for the FY 2003 Early Reading First competition.

Supplemental Data—States That Have Approved Reading First Plans by February 28, 2003: A number of States now have approved Reading First plans. For States that received approval of their Reading First plans on or before February 28, 2003, the Department will supplement the FY 2002 Early Reading First eligible LEA list with any LEAs that are eligible under those approved Reading First plans but that were not included on the FY 2002 Early Reading First eligible LEA list.

Waiver of Proposed Rulemaking: It is the Secretary's practice, in accordance with the Administrative Procedure Act (5 U.S.C. 553), to offer interested parties the opportunity to comment on proposed rules that are not taken directly from statute. Ordinarily, this practice would have applied to the priorities and requirements in this notice. Section 437(d)(2) of the General Education Provisions Act (GEPA), however, exempts from this requirement rules that would cause extreme hardship to the intended beneficiaries of the program that would be affected by those regulations. The Secretary has determined that extreme hardship would be caused in this case because: a two-stage competition is necessary in order to obtain the highest-quality applications for these grants because of the complex nature of the program, the variety of potential applicants, and the expected large number of applications; funding is available only until September 30, 2003; and there is insufficient time to publish the competition rules for notice and comment and conduct a two-stage competition before that date. The Secretary, in accordance with section 437(d)(2) of GEPA, has decided to forgo public comment with respect to the rules in this grant competition in order to ensure timely and high-quality awards. These rules will apply only to the FY 2003 grant competition.

Application Process: The FY 2003 Early Reading First grant competition will be conducted through a Pre-Application and Full Application process. All applicants must submit a Pre-Application, which must include a brief description of the context of the existing preschool program(s) to be supported and improved with Early Reading First funds, and then a short narrative that addresses four key concepts related to the proposed project that are described under PRE-APPLICATION SELECTION CRITERIA. The Pre-Application is limited to: 2 double-spaced pages for describing the context, and 10 double-spaced pages to address the selection criteria, with a limited appendix and formatting requirements that are described in the application package.

The Secretary, through a peer review panel of experts convened under section 1203(c)(2) of the ESEA in accordance with section 1222(c) of the ESEA, will evaluate each Pre-Application based on the Pre-Application selection criteria and will determine whether each Pre-Application qualifies for additional points under two Pre-Application competitive priorities included in this notice. In determining which applicants to invite to submit Full Applications, the Secretary will consider the rank order of applications, as determined by the total score of the Pre-Application based on the selection criteria and the awarding of competitive priority points, if any.

The Full Application must include a brief program context description, a narrative addressing the Full Application selection criteria (different than the Pre-Application selection criteria), a budget, and a budget narrative. The Secretary, through a separate peer review panel of experts also convened under section 1203(c)(2) of the ESEA in accordance with section 1222(c) of the ESEA, will evaluate each Full Application based on the Full Application selection criteria and will determine whether each Full Application qualifies for additional points under the Full Application competitive priority included in this notice. The Full Application is limited to: 2 double-spaced pages for the context description, 35 double-spaced pages for the narrative, and 5 double-spaced pages for the budget narrative, with formatting requirements and limited appendices that are described in the application package.

The Secretary will select applicants for funding based on the quality of the Full Applications including their rank order as determined by the total score of the Full Application based on the selection criteria and the awarding of competitive priority points, if any. In making funding decisions, the Department will use the procedures in section 75.217 of EDGAR, 34 CFR 75.217. When making awards, the Secretary may take into consideration other information that is relevant to obtaining a variety of types of funded projects and an equitable distribution of awards throughout the Nation, such as geographical representation, location in high-need urban and rural areas, project size, and type of program. The Department anticipates making final awards in September 2003.

Priorities

Invitational Priorities

The Secretary is particularly interested in Early Reading First proposals that will be operated by a partnership that includes at a minimum, the following entities: (1) An SEA or a local educational agency (LEA), or both; and (2) a preschool that is not under the administrative control of an LEA. A preschool is considered to be under the administrative control of an LEA for this purpose if the LEA is the fiscal agent or operates, supervises, controls, or manages the preschool. A preschool that is located in a school or LEA building is not necessarily under the administrative control of an LEA. This invitational priority will help ensure that the preschool programs supported with Early Reading First funds are closely coordinated and aligned with the State's kindergarten through grade 12 (K-12) educational system and goals and will give State and local support to preschools that are not formally a part of the State's K-12 public education system. However, applications that meet this invitational priority do not receive any absolute or competitive preference over applications that do not meet the priority.

The Secretary also is particularly interested in Early Reading First projects that will serve a significant number of children with special needs, including those with disabilities and those with limited English proficiency. These programs would provide those children access, through appropriate accommodations, to the same high-quality environments and early reading curricula and activities based on scientifically based reading research as would be provided to children without special needs, to support their age-appropriate development of oral language, phonological awareness, print awareness, and alphabet knowledge. Applications that meet this invitational priority do not receive any absolute or competitive preference over other applications.

Pre-Application Priorities

Pre-Application Competitive Priorities

Under 34 CFR 75.105(c)(2), the Secretary gives two separate competitive preferences to Pre-Applications as follows:

Pre-Application Competitive Priority 1—Children from Low-Income Families

To meet Pre-Application competitive priority 1, each preschool center to be supported by the proposed Early Reading First project must have at least 75 percent of the children enrolled in the preschool center qualify to receive free or reduced price lunches; or at least 75 percent of the children enrolled in the elementary school, in the school attendance area in which that center is located qualify to receive free or reduced price lunches. In addition, each of those preschool centers must be located in a community served by an “eligible LEA,” or primarily serve children who will attend kindergarten in an “eligible LEA.” (“Eligible LEAs” for the purpose of this competitive priority are those LEAs that are listed as “eligible LEAs” for this FY 2003 grant competition on the Early Reading First Web site at http://www.ed.gov/offices/OESE/earlyreading/index.html.)

An application that meets this first Pre-Application competitive priority would receive 10 points in the Pre-Application portion of this grant competition. To receive these points, an applicant that qualifies must complete and submit Pre-Application Form B, included in the application package. These points are in addition to any points the applicant earns under the Pre-Application selection criteria or the other Pre-Application competitive priority.

This competitive priority is designed to ensure that Early Reading First funds are used to support local efforts to enhance the early language, literacy, and prereading development, primarily of preschool children who are from low-income families.

Pre-Application Competitive Priority 2—Novice Applicant

To meet Pre-Application competitive priority 2, the applicant must be a novice applicant (or a group of novice applicants) under 34 CFR 75.225 that is otherwise eligible to apply under this competition, and must check the appropriate box on ED Form 424 (Application for Federal Assistance), Question 6. A “novice applicant” under 34 CFR 75.225 means the following for this Pre-Application competitive priority: an applicant that has not had an active discretionary grant from the Federal Government in the five years before the deadline date for the Pre-Application in this grant competition. For the purposes of this requirement, a grant is active until the end of the grant's project or funding period, including any extensions of those periods that extend the grantee's authority to obligate funds. In the case of applications from more than one eligible applicant (that is, a group application), every eligible applicant must be a novice applicant to meet this Pre-Application competitive priority.

This competitive priority is included to broaden and diversify the pool of qualified applicants and provide greater opportunities for inexperienced applicants with high-quality applications to receive funding. An application that meets this second Pre-Application competitive priority would receive 5 points in the competition. These points are in addition to any points the applicant earns under the Pre-Application selection criteria or the other Pre-Application competitive priority.

Full Application Priority

Under 34 CFR 75.225, the Secretary gives a competitive priority to Full Applications as follows:

Full Application Competitive Priority—Novice Applicant

To meet the Full Application competitive priority, the applicant must be a novice applicant (or a group of novice applicants) under 34 CFR 75.225 that is otherwise eligible to apply under this competition, and must check the appropriate box on ED Form 424 (Application for Federal Assistance), Question 6. A “novice applicant” under 34 CFR 75.225 means the following for this Full Application competitive priority: an applicant that has not had an active discretionary grant from the Federal Government in the five years before the deadline date for a Full Application under this grant competition. For the purposes of this requirement, a grant is active until the end of the grant's project or funding period, including any extensions of those periods that extend the grantee's authority to obligate funds. In the case of applications from more than one eligible applicant (that is, a group application), every eligible applicant must be a novice applicant to meet this Full Application competitive priority.

This competitive priority is included to broaden and diversify the pool of qualified applicants and provide greater opportunities for inexperienced applicants with high-quality applications to receive funding. An application that meets this Full Application competitive priority would receive 5 points in the competition. These points are in addition to any points the applicant earns under the selection criteria.

Pre-Application Selection Criteria

The Secretary will use the following selection criteria in accordance with 34 CFR 75.200(b)(2) and 75.209 to evaluate Pre-Applications under this grant competition. The maximum score for all of these selection criteria is 100 points. The maximum score for each criterion is indicated in parenthesis with the criterion.

Each applicant must first use up to two (2) double-spaced pages of its Pre-Application to describe the context of the existing early childhood education programs serving preschool-age children (preschool programs) that they propose to support with Early Reading First funds. The Secretary recommends that, in the case of center-based programs, applicants generally include no more than a total of 5 centers to ensure that funds are sufficiently concentrated to achieve the program goals. The context description of the current program must include the following information: the ages and number of children being served; demographic and socioeconomic information on those children; information on the type of special needs that any of the children may have; the average hours the children attend the program (hours/day, days/week, and months/year); primary funding source(s) for the program; the basic instructional program; and the number of staff and their qualifications.

The Secretary believes that programs with the capacity and potential to become Early Reading First preschool centers of educational excellence are likely to be preschool programs that currently are stable and effectively attend to the developmental domains traditionally supported by preschool programs, including social, emotional, and physical. The Secretary recommends that applicants demonstrate the current program's capacity in these domains when describing the context of the existing program.

In addition to the 2-page context description, applicants must also include, in the Appendix to the Pre-Application, a list of the names and addresses of the preschool programs that the Early Reading First project will support.

Each applicant must then use no more than a total of 10 additional double-spaced pages to address the following selection criteria. (Pre-Application Competitive Priority 1—Children from Low-Income Families, and Pre-Application Competitive Priority 2—Novice Applicant, are addressed by separate forms in the Pre-Application package.)

Selection Criteria

(1) Vision (up to 25 points): Starting from the context of the existing early childhood education program(s) that the Early Reading First project would support, applicants must describe their vision for what those programs would look like if they were to become centers of educational excellence. Applicants must tie their vision to the scientific reading research upon which that vision is based, and state the overall goals for their proposed Early Reading First project based on that vision and research.

In evaluating the response to this first Pre-Application selection criterion, the Secretary will consider the information in the 2-page context description, as well as the information in the 10-page narrative. The Secretary will evaluate the clarity, creativity, comprehensiveness, and feasibility of the overall vision, and the capacity and potential of the project to achieve that vision. The Secretary also will consider how well the goals are tied to the vision, and the extent to which those goals incorporate high expectations, based on scientific research, for improvements in the early learning environment, curricula, teacher instruction, and will enhance children's development of oral language, phonological awareness, print awareness, and alphabet knowledge.

(2) Key Research and Program Design (up to 40 points): Applicants must discuss the key scientifically based research in the areas of language, cognitive, and early reading development for preschool-age children, and include citations to the sources of that research. Applicants must tie their program design to that research, by explaining the research-based strategies they would use, and the changes they would make to the existing program, which will appropriately address the needs of all children in the project, including children with special needs, in each of the following core areas: classroom environment, professional development, curricula and instruction, and on-going screening assessment or other appropriate measures to monitor the children's progress. Applicants must explain any changes that they would make in the amount of time the program spends on developing children's language, cognition, and early reading skills, and how they would engage parents in helping with their children's development in those areas.

In evaluating the response to this second Pre-Application selection criterion, the Secretary will consider the relevance and rigor of the research cited, and how well the program design clearly links the proposed strategies with the major findings of up-to-date scientifically based reading research about best practices in language, cognitive, and early reading development. These best practices may include, for example, how the Early Reading First project will do the following: create high-quality oral language and print-rich environments; use strong, intensive, sustained, and classroom-focused professional development for preschool staff; support the diverse needs of all children's learning through the seamless integration of curricula, materials, and instructional approaches, including the use of explicit, contexualized, and scaffolded instruction in phonological awareness, oral language skills, print awareness, and alphabet knowledge; and use continuous screening assessments to monitor children's progress.

The Secretary also will consider the clarity and feasibility of the overall program design, including the extent to which, in the case of center-based early education programs for preschool-age children, the number of centers to be supported by Early Reading First is limited enough (generally, to no more than five (5) centers) to achieve the project goals with the amount of funds requested.

(3) Continuity and Coordination with Formal School Instruction (up to 10 points): Applicants must indicate whether or not their State has preschool standards in the cognitive domain, and if it does, briefly describe those standards. Applicants must explain how their proposed Early Reading First project would prepare young children to meet their State's preschool content standards (if any) and their State's reading or language arts content standards for kindergarten or the lowest elementary grade for which the State has those content standards. In evaluating the response to this third Pre-Application selection criterion, the Secretary will consider how well the Early Reading First strategies and activities would prepare children to meet the State's preschool cognitive standards (if any), and the State's content standards in reading or language arts for the lowest grade for which the State has those standards.

(4) Measuring Success (up to 25 points): Applicants must describe how they will evaluate the success of their Early Reading First activities. Specifically, applicants must explain how they will determine whether the early language, literacy, and pre-reading development of the preschool-age children served by the Early Reading First Program has improved and been enhanced as a result of their Early Reading First strategies and changes. Applicants must describe the key outcomes that they would expect to see in the classroom environment, instructional practice, and children's development of oral language, phonological awareness, print awareness, and alphabet knowledge, how they plan to measure those outcomes, and how they would use the results for continuous program improvement.

In evaluating the response to this fourth Pre-Application selection criterion, the Secretary will consider how well the expected outcomes are linked to the program's goals, and how well the proposed child measures will demonstrate those outcomes. The Secretary will also consider the validity and rigor of the proposed measures, their appropriateness for the target population, and the degree to which the program will use the results to inform future instruction and program improvement.

Full Application Selection Criteria

The Secretary will use the following selection criteria in accordance with 34 CFR 75.200(b)(2) and 75.209 to evaluate Full Applications under this grant competition. The maximum score for all of the Full Application selection criteria is 100 points. The maximum score for each criterion is indicated in parenthesis with the criterion.

When making funding decisions, the Secretary will consider the rank order of the applications based on the selection criteria and competitive priority. The Secretary will make award determinations under section 75.217 of EDGAR, 34 CFR 75.217, and may take into consideration other information that is relevant to obtaining a variety of types of funded projects and an equitable distribution of awards throughout the Nation, such as geographical representation, location in high-need urban and rural areas, project size, and type of program.

Each applicant must first use up to two (2) double-spaced pages of its Full Application to describe the context of the existing early childhood education programs serving preschool-age children (preschool programs) that it proposes to support with Early Reading First funds. The peer reviewers will consider the information in the context description of the existing preschool programs, as well as all other information in the Full Application, in evaluating the applicant's responses to the Full Application selection criteria. This description may be the same description that the applicant included in its Pre-Application, or a revised description, and must include the following information: the ages and number of children being served; demographic and socioeconomic information on those children; information on the type of special needs that any of the children may have; the average hours the children attend the program (hours/day, days/week, and months/year); primary funding source(s) for the program; the basic instructional program; and the number of staff and their qualifications.

The Secretary believes that programs with the capacity and potential to become Early Reading First preschool centers of educational excellence are likely to be preschool programs that currently are stable and effectively attend to the developmental domains traditionally supported by preschool programs, including social, emotional, and physical. The Secretary recommends that applicants demonstrate the program's current capacity in these domains when describing the context of the existing program.

Selection Criteria

(a) Capacity and Significance of Project (up to 15 points). (1) The Secretary considers the capacity and significance of the proposed project.

(2) In determining the capacity and significance of the proposed project, the Secretary considers the following factors:

(i) The likelihood that the project will become a center of educational excellence for at-risk preschool-age children, as demonstrated by the goals articulated and the program's capacity and potential for achieving those goals.

(ii) The extent to which the project will provide unique research-based benefit to the field of early childhood education, such as through information, materials, and techniques, and the potential for those resources being used effectively in other settings.

(b) Quality of Project Activities and Services (up to 35 points). (1) The Secretary considers the quality of the proposed project's activities and services.

(2) In determining the quality of the proposed project's activities and services, the Secretary considers the following factors:

(i) The extent to which the applicant presents a detailed plan that explains how the project will provide the following activities and services to support the development of language, cognitive, and early reading skills for preschool-age children; and how the project will incorporate strategies that meet the diverse needs of all of the project's preschool-age children (including those with limited English proficiency, disabilities, and other special needs) into those activities and services:

(A) Providing a rich oral language and print-rich environment and developing preschool-age children's oral language, phonological awareness, print awareness, and alphabet knowledge.

(B) Preparing and providing ongoing assistance to staff, through professional development and other support.

(C) Providing services and using instructional materials and activities, including explicit, contextualized, and scaffolded instruction, and integrating those instructional materials and activities into the applicant's preschool programs and family literacy services.

(D) Using screening reading assessments or other appropriate measures to determine the skills children are learning and identify children who might be at risk of reading failure.

(E) Helping children, especially those experiencing difficulty with language and early reading skills, to make the transition from preschool to formal classroom instruction.

(F) Involving parents meaningfully in their children's early education.

(ii) The reviewers also will evaluate the extent to which the applicant's detailed plan explains how each of the project's activities and services are based on up-to-date knowledge from scientifically based reading research, with research citations where appropriate.

(c) Quality of Project Personnel (up to 10 points). (1) The Secretary considers the quality of project personnel.

(1) The Secretary considers the quality of project personnel.

(2) In determining the quality of project personnel, the Secretary considers the following factors:

(i) The strength of the qualifications, including relevant training and experience, of the project staff.

(ii) The strength of the qualifications, including relevant training and experience, of personnel with whom the project will contract to assist in project activities, including research-based professional development for staff to support children's development of language, cognitive, and early reading skills.

(d) Quality of Management Plan (up to 20 total points).

(1) The Secretary considers the quality of the management plan for the proposed project.

(2) In determining the quality of the management plan, the Secretary considers the feasibility of the proposed project and the likelihood that the project will be able to achieve its expected goals, taking into consideration the strength of any partnership, and using the following factors:

(i) The adequacy of the management plan to achieve the goals of the proposed project on time and within budget, including: clearly defined goals, activities, responsibilities, and a timeline for accomplishing project tasks.

(ii) The extent to which the time commitments of the project director and principal investigator and other key project personnel, including any partnership commitments, are appropriate and adequate to meet the objectives of the proposed project.

(iii) The extent to which the proposed costs are adequate in relation to the proposed activities, the number of persons to be served, and the anticipated results and benefits.

(e) Quality of the Project Evaluation (up to 20 total points).

(1) The Secretary considers the quality of the proposed project evaluation.

(2) In considering the quality of the proposed project evaluation, the Secretary considers the extent to which the methods of evaluation include the use of objective, valid, and reliable performance measures that are clearly related to the intended outcomes of the project and will produce quantitative and qualitative data in the following areas:

(i) Improvement in classroom environment.

(ii) Improvement in teacher knowledge and qualifications.

(iii) Improvement in teacher instruction and planning.

(iv) Improvement in outcomes for children's development of oral language, phonological awareness, print awareness, and alphabet knowledge.

Paperwork Reduction Act Considerations

The procedures and requirements contained in this notice relate to an application package that the Department has developed for the Early Reading First Program grants. The public may obtain copies of this application package by calling or writing the individual identified below as the Department's contact, or through the Department's Web site at: http://www.ed.gov/GrantApps/84.359 or http://www.ed.gov/offices/OESE/earlyreading/index.html.

As required by the Paperwork Reduction Act, the Office of Management and Budget has approved the use of this application package under OMB control number 1810-0654, which expires October 31, 2004.

For Applications Contact

Education Publications Center (ED Pubs), P.O. Box 1398, Jessup, MD 20794-1398. Telephone (toll free): 1-877-433-7827. FAX: (301) 470-1244. If you use a telecommunications device for the deaf (TDD), you may call (toll free): 1-877-576-7734.

You may also contact ED Pubs at its Web site: http://www.ed.gov/about/ordering.jsp.

Or you may contact ED Pubs at its e-mail address: edpubs@inet.ed.gov.

If you request an application from ED Pubs, be sure to identify this competition as follows: CFDA number 84.359(A and B).

The public also may obtain a copy of the application package on the Department's Web site at the following address: http://www.ed.gov/GrantApps/84.359A.

FOR FURTHER INFORMATION CONTACT: Mary Anne Lesiak or Jill Stewart, Office of Elementary and Secondary Education, 400 Maryland Avenue SW., Washington, DC 20202-6132. Telephone: (202) 260-4555, or via Internet: erf@ed.gov.

If you use a telecommunications device for the deaf (TDD), you may call the Federal Information Relay Service (FIRS) at 1-800-877-8339. Individuals with disabilities may obtain this document in an alternative format (e.g., Braille, large print, audiotape, or computer diskette) on request to the contact person listed in the preceding paragraph.

Individuals with disabilities may obtain a copy of the application package in an alternative format by contacting that person. However, the Department is not able to reproduce in an alternative format the standard forms included in the application package.

Electronic Access to This Document

You may view this document, as well as all other Department of Education documents published in the Federal Register, in text or Adobe Portable Document Format (PDF) on the Internet at the following site: http://www.ed.gov/legislation/fedregister.

To use PDF, you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html.

Program Authority: 20 U.S.C. 6371-6376 and Public Law No. 107-110.
Dated: March 6, 2003.
Eugene W. Hickok,
Under Secretary.

[FR Doc. 03-5784 Filed 3-10-03; 8:45 am]

BILLING CODE 4000-01-P